DEPARTMENT OF ENERGY

10 CFR Part 429

[EERE-2019-BT-STD-0008]

RIN 1904-AD29

Energy Conservation Program: Energy Conservation Standards for Small Electric Motors

AGENCY: Office of Energy Efficiency and Renewable Energy, Department of Energy.

ACTION: Notification of webinar public meeting and reopening of comment period.

SUMMARY: On April 30, 2020, the U.S. Department of Energy (“DOE”) published in the Federal Register a Notification of Proposed Determination (“NOPD”) and request for comment regarding energy conservation standards for small electric motors. DOE is announcing that a webinar will be held regarding this proposed determination and that the comment period is re-opened to accept additional written comments.

DATES: Meeting: DOE will hold a webinar on October 6, 2020, from 1:00 p.m. to 3:00 p.m. The comment period for the NOPD, published on April 30, 2020 (85 FR 24146), which closed on June 29, 2020, is hereby reopened and extended. DOE will accept written comments, data, and information in response to the notification of proposed determination no later than October 20, 2020.

ADDRESSES: See the “Public Participation” section of this document for webinar registration information, participant instructions, and information about the capabilities available to webinar participants.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at https://www.regulations.gov/docket?D=EERE-2019-BT-STD-0008 and https://www1.eere.energy.gov/buildings/appliance_standards/standards.aspx?productid=7. The docket web page contains simple instructions on how to access all documents, including public comments, in the docket.

FOR FURTHER INFORMATION CONTACT: Mr. Jeremy Dommu, U.S. Department of Energy, Office of Energy Efficiency and Renewable Energy, Building Technologies Office, EE-5B, 1000 Independence Avenue SW, Washington, DC 20585-0121. Telephone: (202) 586-9870. Email: ApplianceStandardsQuestions@ee.doe.gov.

Mr. Michael Kido, U.S. Department of Energy, Office of the General Counsel, GC-33, 1000 Independence Avenue SW, Washington, DC 20585-0121. Telephone: (202) 586-8145. Email: Michael.Kido@hq.doe.gov.

For further information on how to submit a comment, review other public comments and the docket, or participate in the webinar, contact the Appliance and Equipment Standards Program staff at (202) 287-1445 or by email: ApplianceStandardsQuestions@ee.doe.gov.

SUPPLEMENTARY INFORMATION: The Energy Policy and Conservation Act of 1975, as amended (“EPCA”), prescribes energy conservation standards for various consumer products and certain commercial and industrial equipment, including small electric motors. EPCA also requires the Secretary of Energy to periodically determine whether more-stringent, amended standards would be technologically feasible and cost effective, and would result in significant conservation of energy. In a Notification of Proposed Determination (“NOPD”) published on April 30, 2020, DOE tentatively determined that more stringent small electric motors standards would not be cost effective, and, thus, did not propose to amend its energy conservation standards for this equipment. 85 FR 24146. DOE requested submission of written comment, data, and information pertaining to these standards by June 29, 2020.

This document announces that DOE will hold a webinar to discuss the proposed determination on October 6, 2020. Additionally, DOE will reopen the comment period for written comments until October 20, 2020 to provide interested parties an additional 14 days following the webinar to prepare and submit comments. DOE will consider any comments received by this date, to be timely submitted.

Public Participation

See section IV, “Public Participation,” of the NOPD for additional information on submitting written comments. Id. at 85 FR 24171.

A. Participation in the Webinar

The time and date of the webinar are listed in the DATES section at the beginning of this document. Webinar registration information, participant instructions, and information about the capabilities available to webinar participants will be published on DOE's website: https://www1.eere.energy.gov/buildings/appliance_standards/standards.aspx?productid=7. If you plan to attend the webinar, please notify the Appliance and Equipment Standards Program staff at (202) 287-1445 or by email: Appliance_Standards_Public_Meetings@ee.doe.gov. Participants are responsible for ensuring their systems are compatible with the webinar software.

Additionally, you may request an in-person meeting to be held prior to the close of the request period provided in the DATES section of this document. Requests for an in-person meeting may be made by contacting Appliance and Equipment Standards Program staff at (202) 287-1445 or by email: Appliance_Standards_Public_Meetings@ee.doe.gov.

Please note that foreign nationals participating in the public meeting are subject to advance security screening procedures which require advance notice prior to attendance at the public meeting. If a foreign national wishes to participate in the public meeting, please inform DOE of this fact as soon as possible by contacting Ms. Regina Washington at (202) 586-1214 or by email: Regina.Washington@ee.doe.gov so that the necessary procedures can be completed.

B. Procedure for Submitting Prepared General Statements for Distribution

Any person who has plans to present a prepared general statement may request that copies of his or her statement be made available at the public meeting. Such persons may submit requests, along with an advance electronic copy of their statement in PDF (preferred), Microsoft Word or Excel, WordPerfect, or text (ASCII) file format, by email to: Appliance_Standards_Public_Meetings@ee.doe.gov. The request and advance copy of statements must be received at least one week before the public meeting via email. Please include a telephone number to enable DOE staff to make a follow-up contact, if needed.

A transcript of the public meeting will be included in the docket, which can be viewed as described in the Docket section at the beginning of this document. In addition, any person may buy a copy of the transcript from the transcribing reporter.

Signing Authority

This document of the Department of Energy was signed on August 31, 2020, by Alexander N. Fitzsimmons, Deputy Assistant Secretary for Energy Efficiency, Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 31, 2020.
Treena V. Garrett,
Federal Register Liaison Officer, U.S. Department of Energy.

[FR Doc. 2020-19566 Filed 9-17-20; 8:45 am]

BILLING CODE 6450-01-P